DEPARTMENT OF ENERGY

Federal Energy Regulatory Commission

[Project No. 8700-005]

Alan J. Amy; Amy Family Holdings, LLC; Notice of Transfer of Exemption

1. On November 21, 2019, Alan J. Amy exemptee for the Amy Ranch Hydroelectric Project No. 8700, filed a letter notifying the Commission that the project was transferred from Alan J. Amy to Amy Family Holdings, LLC. The exemption from licensing was originally issued on October 11, 1985.¹ The project is located on Deep Creek and Black Creek in Butte County, Idaho. The transfer of an exemption does not require Commission approval.

¹ Alan J. Amy, 33 FERC 62,045 (1985).

2. Amy Family Holdings, LLC is now the exemptee of the Amy Ranch Hydroelectric Project No. 8700. All correspondence must be forwarded to: Ms. Loretta Amy, Amy Family Holdings, LLC, 3244 S. Laurelhurst Place, Boise, ID 83705, telephone: (208) 949-5278; and for day-to-day project activities: Delwin C. Amy, 952 East 1020 North, Richfield, ID 83349, telephone: (208) 420-1255.

Dated: February 18, 2020.
Nathaniel J. Davis, Sr.,
Deputy Secretary.

[FR Doc. 2020-03572 Filed 2-21-20; 8:45 am]

BILLING CODE 6717-01-P